DEPARTMENT OF HEALTH AND HUMAN SERVICES

Administration for Children and Families

Proposed Information Collection Activity; Comment Request Proposed Projects:

Title: Multistate Financial Institution Data Match with Federally Assisted State Transmitted Levy (FIDM/FAST Levy)

OMB No.: 0970-0196.

Description: State child support enforcement agencies are required to attach and seize an obligor's assets in financial institutions to satisfy any current support obligation and arrearage when the obligor owes past-due support. To locate an obligor's account, state child support enforcement agencies are required to enter into data matching agreements with financial institutions doing business in their state. State child support enforcement agencies use the results of data matches to secure information leading to the enforcement of the support obligation. The federal Office of Child Support Enforcement (OCSE) assists states to fulfill the data matching requirements with multistate financial institutions by facilitating matching through the Federal Parent Locator Service's Multistate Financial Institution Data Match (MSFIDM) program.

To further assist states to meet this statutory requirement, the OCSE enhanced the Federal Parent Locator Service by developing the Federally Assisted State Transmitted (FAST) Levy application that provides a secure and automated method of collecting and disseminating electronic levy notices between state child support enforcement agencies and multistate financial institutions. This increases states' efficiency to secure financial assets.

The FIDM/FAST Levy information collection activities are authorized by: 42 U.S.C. 652(l) which authorizes OCSE, through the Federal Parent Locator Service, to aid state child support agencies and financial institutions doing business in two or more states in reaching agreements regarding the receipt from financial institutions, and the transfer to the state child support agencies, of information pertaining to the location of accounts held by obligors who owe past-due support; 42 U.S.C. 666 (a)(2) and (c)(1)(G)(ii) which require state child support agencies in cases in which there is an arrearage to establish procedures to secure assets to satisfy any current support obligation and the arrearage by attaching and seizing assets of the obligor held in financial institutions; (2) 42 U.S.C. 666(a)(17), which requires state child support agencies to establish procedures under which the state child support agencies shall enter into agreements with financial institutions doing business in the state to develop and operate, in coordination with financial institutions and the Federal Parent Locator Service (in the case of financial institutions doing business in two or more states), a data match system, using automated data exchanges to the maximum extent feasible, in which a financial institution is required to quarterly provide information pertaining to a noncustodial parent owing past-due support who maintains an account at the institution; and (ii) in response to a notice of lien or levy, encumber or surrender, assets held; (3) 42 U.S.C. 652(a)(7), which requires OCSE to provide technical assistance to state child support enforcement agencies to help them establish effective systems for collecting child and spousal support; and (4) 45 CFR 303.7(a)(5), which requires state child support agencies to transmit requests for information and provide requested information electronically to the greatest extent possible.

Respondents: Multistate Financial Institutions and State Child Support Agencies.

Annual Burden Estimates
Instrument | Number of respondents | Number of responses per respondent | Average burden hours per response | Total burden hours
Financial Data Match Result File | 112 | 4 | .33 | 147.84
Election Form | 30 | 1 | 0.5 | 15
FAST Levy Response Withhold Record Specifications: State Child Support Enforcement Agencies | 7 | 1 | 317.5 | 2,222.5
FAST Levy Response Withhold Record Specifications: Multistate Financial Institutions | 5 | 1 | 317.5 | 1,587.5

Estimated Total Annual Burden Hours: 3,972.84.

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street NW., Washington, DC 20503, Attn: Desk Officer for ACF.

Bob Sargis,
Reports Clearance Officer.

[FR Doc. 2014-10788 Filed 5-9-14; 8:45 am]

BILLING CODE P